DEPARTMENT OF THE TREASURY

Internal Revenue Service

26 CFR Part 1

[TD 8990]

RIN 1545-AX66

Equity Options With Flexible Terms; Qualified Covered Call Treatment; Suspension of Rule

AGENCY: Internal Revenue Service (IRS), Treasury.

ACTION: Suspension of final rule and announcement of new effective date.

SUMMARY: This document suspends a final rule that was published in the Federal Register on Monday, April 29, 2002 (67 FR 20896) providing guidance on the application of the rules governing qualified covered calls.

DATES: The final rule published April 29, 2002 (67 FR 20896) is suspended effective April 29, 2002. That rule will be effective July 29, 2002.

FOR FURTHER INFORMATION CONTACT: Pamela Lew, (202) 622-3950 (not a toll-free number).

LaNita Van Dyke,
Paralegal Specialist, Regulations Unit, Associate Chief Counsel, (Income Tax and Accounting).

[FR Doc. 02-13579 Filed 5-29-02; 8:45 am]

BILLING CODE 4830-01-P